DEPARTMENT OF JUSTICE

Office of Justice Programs

[OMB Number 1121-NEW]

Agency Information Collection Activities; Proposed eCollection eComments Requested; New Collection: Survey of State Criminal Investigative Agencies on Law Enforcement Use of Force

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until July 5, 2016.

FOR FURTHER INFORMATION CONTACT: If you have additional comments especially on the estimated public burden or associated response time, suggestions, or need a copy of the proposed information collection instrument with instructions or additional information, please contact Shelley Hyland, Statistician, Law Enforcement Statistics, Bureau of Justice Statistics, 810 Seventh Street NW., Washington, DC 20531 (email: Shelley.Hyland@usdoj.gov; telephone: 202-616-1706).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: Survey of State Criminal Investigative Agencies on Law Enforcement Use of Force.

(3) The agency form number, if any, and the applicable component of the Department sponsoring the collection: No agency form number at this time. The applicable component within the Department of Justice is the Bureau of Justice Statistics, in the Office of Justice Programs.

(4) Affected public who will be asked or required to respond, as well as a brief abstract: Respondents will be state criminal investigative agencies (SCIAs). Abstract: The President's Task Force on 21st Century Policing called for law enforcement agencies to use external and independent criminal investigation of use of force incidents. In some states, the criminal investigative agency serves as the primary body that local and county law enforcement agencies use as the independent investigator. However, it is currently unknown how common this is nationwide. This survey will be administered to all state criminal investigative agencies (SCIAs) in order to determine the extent to which SCIAs are investigating use of force cases for other law enforcement agencies. SCIAs will be asked about the types of use of force incidents investigated and the jurisdictions covered within the state. The survey will also assess how SCIAs become involved in these investigations, how cases are closed, the data systems that SCIAs use to record and report on use of force investigations, and the total number of law enforcement use of force cases investigated in a three year period.

(5) An estimate of the total number of respondents and the amount of time estimated for an average respondent to respond: An agency-level survey will be sent to a representative at all 49 SCIAs. The expected burden placed on these respondents is about 52.5 minutes per respondent.

(6) An estimate of the total public burden (in hours) associated with the collection: The total respondent burden is approximately 42.9 burden hours.

If additional information is required contact: Jerri Murray, Department Clearance Officer, United States Department of Justice, Justice Management Division, Policy and Planning Staff, Two Constitution Square, 145 N Street NE., 3E.405B, Washington, DC 20530.

Dated: May 3, 2016.
Jerri Murray,
Department Clearance Officer for PRA, U.S. Department of Justice.

[FR Doc. 2016-10763 Filed 5-5-16; 8:45 am]

BILLING CODE 4410-18-P